FEDERAL COMMUNICATIONS COMMISSION

Notice of Public Information Collection(s) Being Reviewed by the Federal Communications Commission, Comments Requested

July 22, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before September 27, 2002. If you anticipate that you will be submitting comments, but find it difficult to do so within the period of time allowed by this notice, you should advise the contact listed below as soon as possible.

ADDRESSES: Direct all comments to Judith Boley Herman or Leslie Smith, Federal Communications Commission, Room 1-C804 or Room 1-A804, 445 12th Street, SW., Washington, DC 20554 or via the Internet to jboley@fcc.gov or lesmith@fcc.gov.

FOR FURTHER INFORMATION CONTACT: For additional information or copies of the information collection(s), contact Judith Boley Herman at 202-418-0214 or via the Internet at jboley@fcc.gov.

SUPPLEMENTARY INFORMATION: OMB Control No.: 3060-XXXX.

Title: Radar Detectors Operating Under Part 15.

Form No.: N/A.

Type of Review: New collection.

Respondents: Business or other for-profit, and state, local or tribal governments.

Number of Respondents: 8.

Estimated Time Per Response: 2 hours.

Frequency of Response: One time reporting requirement; third party disclosure requirement.

Total Annual Burden: 16 hours.

Total Annual Cost: $2,000.

Needs and Uses: The collection of information is made necessary by changes to part 15 of the Commission's Rules that require that all radar detectors to be certified to demonstrate compliance with certain radiated emission limits before they can be marketed. To assist in identifying products manufactured before and after a certain date on which certification is required. Radar detector manufacturers will be required to provide the Commission with a list of radar detector serial numbers.

Federal Communications Commission.
Marlene H. Dortch,
Secretary.

[FR Doc. 02-19062 Filed 7-26-02; 8:45 am]

BILLING CODE 6712-01-P